DEPARTMENT OF JUSTICE

Office of Juvenile Justice and Delinquency Prevention

Proposed Information Collection Activities: Proposed Collection; Comment Request

ACTION: Notice of information collection under review: New collection comprehensive strategy stakeholder survey.

The Department of Justice, Office of Juvenile Justice and Delinquency Prevention (OJJDP), has submitted the following information collection request to the Office of Management and Budget (OMB) for review and clearance in accordance with emergency review procedures of the Paperwork Reduction Act of 1995. OMB approval has been requested by May 15, 2000. The proposed information collection is published to obtain comments from the public and affected agencies. If granted, the emergency approval is only valid for 180 days. Comments should be directed to OMB, Office of Information Regulation Affairs, Attention: Department of Justice Desk Officer, (202) 395-7860, Washington, DC 20530.

During the first 60 days of this same review period, a regular review of this information collection is also being undertaken. All comments and suggestions, or questions regarding additional information, to include obtaining a copy of the proposed information collection instrument with instructions, should be directed to Dean V. Hoffman, Program Manager, Office of Juvenile Justice and Delinquency Prevention, 810 7th Street, NW, Washington, DC 20531, or facsimile at (202) 353-9096.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology (e.g., permitting electronic submission of responses).

Overview of This Information Collection

(1) Type of Information Collection: New collection.

(2) Title of the Form/Collection: Comprehensive Strategy Stakeholder Survey.

(3) Agency form number: None.

(4) Component of the sponsoring the collection: Form: None. Office of Juvenile Justice and Delinquency Prevention, Office of Justice Programs, United States Department of Justice.

(5) Affected public who will be asked or required to respond, as well as a brief abstract: Primary: Individuals or households. Other: None. Abstract: This information will be collected to provide critical information on the relationship between community and State-level contextual factors and the Comprehensive Strategy planning and implementation processes. The survey will also document the progress and obstacles of implementing Comprehensive Strategy in select communities and the lessons learned in the planning process.

(6) Estimate of the total number of respondents and the amount of time estimated for an average respondent to respond: 250 responses at 1 hour and 30 minutes per response. Estimate of the total public burden (in hours) associated with the collection: 375 annual burden hours.

If additional information is required contact: Ms. Brenda E. Dyer, Deputy Clearance Office, United States Department of Justice, Information Management and Security Staff Justice Management Division, Suite 1220, National Place, 1331 Pennsylvania Avenue NW, Washington, DC 20530.

Dated: April 12, 2000.
Brenda E. Dyer,
Department Deputy Clearance Officer, United States Department of Justice.

[FR Doc. 00-9618 Filed 4-17-00; 8:45 am]

BILLING CODE 4410-18-M